DEPARTMENT OF LABOR

Employment and Training Administration

[TA-W-38, 681]

Arrow Industries/Conagra Carrollton, Texas; Notice of Termination of Investigation

Pursuant to section 221 of the Trade Act of 1974, an investigation was initiated on February 12, 2001, in response to a worker petition which was filed on behalf of workers at Arrow Industries/Conagra, Carrollton, Texas.

During the full period of this investigation, no knowledgeable company official was located and no information became available regarding the potential eligibility of this worker group. Consequently further investigation in this case would serve no purpose, and the investigation has been terminated.

Signed in Washington, DC, this 5th day of September, 2001.
Edward A. Tomchick,
Director, Division of Trade Adjustment Assistance.

[FR Doc. 01-23537 Filed 9-20-01; 8:45 am]

BILLING CODE 4510-30-M